FEDERAL RESERVE SYSTEM

Formations of, Acquisitions by, and Mergers of Bank Holding Companies; Correction

This notice corrects a notice (FR Doc. 01-10469) published on pages 21157 and 21158 of the issue for Friday, April 27, 2001.

Under the Federal Reserve Bank of St. Louis heading, the entry for Harrodsburg First Financial Bancorp, Inc., Harrodsburg, Kentucky, is revised to read as follows:

A. Federal Reserve Bank of St. Louis (Randall C. Sumner, Vice President) 411 Locust Street, St. Louis, Missouri 63166-2034:

1. Harrodsburg First Financial Bancorp, Inc., to become a bank holding company by acquiring 100 percent of the voting shares of Citizens Financial Bank, Glasgow, Kentucky.

In connection with this application, Applicant also has applied to retain ownership of its thrift subsidiary, First Financial Bank, Harrodsburg, Kentucky, and thereby engage in operating a savings association, pursuant to § 225.24(b)(4) of Regulation Y.

Comments on this application must be received by May 21, 2001.

Board of Governors of the Federal Reserve System, April 30, 2001.
Robert deV. Frierson
Associate Secretary of the Board.

[FR Doc. 01-11167 Filed 5-3-01; 8:45 am]

BILLING CODE 6210-01-S